DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Estuary Habitat Restoration Program Inventory.

OMB Control Number: 0648-0479.

Form Number(s): None.

Type of Request: Regular (extension of a currently approved collection).

Number of Respondents: 6.

Average Hours per Response: 4 hours for each new project; 2 hours for updates.

Burden Hours: 18.

Needs and Uses: The Estuary Restoration Act (ERA) of 2000 (Act) was signed into law in November 2000 and makes restoring our nation's estuaries a national priority by leveraging limited federal resources with state, local, and private funding. As part of the Act, the National Oceanic and Atmospheric Administration (NOAA) is required to develop and maintain a database of estuary restoration projects. The purpose of the database is to provide information to improve restoration methods, provide information for reports transmitted to Congress (Section 108(b)), and track the acres of habitat restored. Project information collected and maintained is made available to the public through project summaries. The database contains project information for projects funded through the ERA that meet quality control requirements and data standards established under the Act. This information collection is a requirement only for those parties receiving ERA funds.

Affected Public: Not-for-Profit Institutions, and State, Local, or Tribal Government.

Frequency: Annual.

Respondent's Obligation: Mandatory.

This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
Department PRA Clearance Officer, Office of the Chief Information Officer, Commerce Department.

[FR Doc. 2019-27735 Filed 12-23-19; 8:45 am]

BILLING CODE 3510-22-P